ENVIRONMENTAL PROTECTION AGENCY

[EPA-HQ-OAR-2004-0500; FRL-9977-47-OEI]

Information Collection Request Submitted to OMB for Review and Approval; Comment Request; EPA's ENERGY STAR Program in the Residential Sector

AGENCY: Environmental Protection Agency (EPA).

ACTION: Notice.

SUMMARY: The Environmental Protection Agency (EPA) has submitted an information collection request (ICR)—EPA's ENERGY STAR Program in the Residential Sector, EPA ICR Number 2193.04, OMB Control Number 2060-0586—to the Office of Management and Budget (OMB) for review and approval in accordance with the Paperwork Reduction Act. Public comments were previously requested via the Federal Register on January 5, 2018 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 4, 2018.

ADDRESSES: Submit your comments, referencing Docket ID Number EPA-HQ-OAR-2004-0500, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brian Ng, Energy Star Residential Branch, Mailcode 6202A, Environmental Protection Agency, 1200 Pennsylvania Ave. NW, Washington, DC 20460; telephone number: (202) 343-9162; fax number: (202) 343-2204; email address: ng.brian@epa.gov.

SUPPLEMENTARY INFORMATION: Supporting documents, which explain in detail the information that the EPA will be collecting, are available in the public docket for this ICR, which can be viewed online at www.regulations.gov or in person at the EPA Docket Center, EPA West, Room 3334, 1301 Constitution Ave. NW, Washington, DC. The Docket Center telephone number is 202-566-1744. For additional information, visit http://www.epa.gov/dockets.

Abstract: ENERGY STAR® is a voluntary energy efficiency labeling and public outreach program aimed at forming public-private partnerships that prevent air pollution rather than control it after its creation. ENERGY STAR's new construction programs promote cost-effective, whole house energy efficiency that is independently verified by third party professionals. ENERGY STAR also promotes cost-effective energy efficiency improvements in existing homes through its ENERGY STAR Verified HVAC Installation program. Participation in the ENERGY STAR program is voluntary and included the following activities:

Joining the ENERGY STAR Program and Related Activities: An organization interested in joining ENERGY STAR as a partner is asked to complete and submit a partnership agreement. Partners agree to undertake efforts such as educating their staff and the public about the partnership, developing and implementing a plan to improve energy performance in homes, and highlighting achievements utilizing the ENERGY STAR label.

Verification of ENERGY STAR Guidelines: The verification process for site-built homes involves the home builder, the third-party verification organization (Home Energy Rating Providers and Home Energy Raters) and the HVAC contractor, which complete four checklists as part of the verification process. The verification process for multifamily high-rise units involves the developer submitting information both pre-construction and post-construction to a third-party Multifamily High Rise Review Organization to ensure that program prerequisites and energy conservation measures are properly installed and meet ENERGY STAR requirements. In addition, plants producing manufactured homes undergo a certification process to ensure that they can consistently produce and install homes that meet ENERGY STAR guidelines. Also, under ENERGY STAR's Verified HVAC Installation program, local program sponsors promote the installation of HVAC systems in homes to meet ENERGY STAR guidelines. Sponsors oversee contractors who perform the installations, perform tests, and report the results to the sponsors. Sponsors submit periodic reports to EPA on these activities.

Evaluation: Partners and other participants are asked to periodically submit information as needed to assist in evaluating the effectiveness of ENERGY STAR's energy efficiency guidelines, to provide information about energy efficiency incentives available to the public, and to determine the impact that ENERGY STAR has on the market for energy-efficient homes.

Periodic Reporting: Some partners are asked to periodically submit information to EPA to assist EPA in tracking and measuring progress in building and promoting ENERGY STAR certified homes and installing and promoting energy-efficient improvements.

ENERGY STAR Awards: Each year, partners who meet specific criteria are eligible to apply for an ENERGY STAR award, which recognizes organizations demonstrating outstanding support in promoting ENERGY STAR.

Form Numbers: 5900-188, 5900-266, 5900-268, 5900-269, 5900-270, 5900-420, 5900-421, 5900-422, 5900-423, 5900-424, 5900-425, 5900-426, 5900-427, 5900-428, 5900-429.

Respondents/affected entities: ENERGY STAR partners, including home builders, multifamily high rise developers, manufactured home plants, verification organizations, and energy efficiency program sponsors. Also included are oversight organizations and HVAC contractors.

Respondent's obligation to respond: Voluntary

Estimated number of respondents: 3,235 (total).

Frequency of response: Once, quarterly, annually, and on occasion.

Total estimated burden: 177,847 hours (per year). Burden is defined at 5 CFR 1320.03(b).

Total estimated cost: $14,747,008 (per year), includes $0 annualized capital or operation & maintenance costs.

Changes in the Estimates: There is a decrease of 6,120 hours in the total estimated respondent burden compared with the ICR currently approved by OMB. This includes a 68,457-hour decrease due primarily to program changes and a 62,337-hour increase due to adjustments resulting primarily from improved data and analysis. EPA's program changes include the sun-setting of several programs and collections, including the Lender Partnership program, the Designed to Earn program, and the Outreach Partnership. In addition, the Home Performance with ENERGY STAR program was transferred from EPA to the U.S. Department of Energy. EPA also will no longer collect homeowner information related to ENERGY STAR certified homes or other programmatic information under this ICR. EPA's adjustments include updating the number of respondents and burdens based on improved data and analysis.

Courtney Kerwin,
Director, Collection Strategies Division.

[FR Doc. 2018-09332 Filed 5-2-18; 8:45 am]

BILLING CODE 6560-50-P